DEPARTMENT OF TRANSPORTATION

Federal Aviation Administration

[Docket No. FAA-2020-0873; Notice of Availability Docket No. 20-AEA-17]

Notice of Availability of the Final Environmental Assessment (Final EA)/Finding of No Significant Impact (FONSI) and the Record of Decision (ROD) for the Teterboro Airport RNAV (GPS) RWY 19 Offset Arrival Procedure

AGENCY: Federal Aviation Administration, (FAA), DOT.

ACTION: Notice of availability.

SUMMARY: The FAA, Eastern Service Center, is issuing this notice to advise the public of the availability of the Final Environmental Assessment (Final EA)/Finding of No Significant Impact (FONSI) and the Record of Decision (ROD) for the Teterboro Airport RNAV (GPS) RWY 19 Offset arrival procedure. The Final EA/FONSI/ROD documents that the project is consistent with FAA Order 1050.1F, Environmental Impacts: Policies and Procedures and with existing national environmental policies and objectives set forth in Section 101 of the National Environmental Policy Act of 1969. (NEPA), Council on Environmental Quality regulations, the requirements of Section 106 of the National Historic Preservation Act, and all other applicable special purpose laws. The project will not significantly affect the quality of the human environment or otherwise include any condition requiring consultation.

SUPPLEMENTARY INFORMATION: The Final EA responds to agency and public comments received by the FAA and it updates the Draft EA, issued on December 23, 2019. The publication of the RNAV (GPS) RWY 19 Offset arrival procedure seeks to respond to a request from the Port Authority of New York and New Jersey by making available an alternative arrival procedure that overflies a less densely populated corridor while maintaining efficient operation of airspace around the Teterboro Airport.

The Final EA/FONSI/ROD documents the FAA's decision to implement the Proposed Action alternative as detailed in and supported by the Final EA.

The Final EA and FONSI/ROD for the Teterboro Airport RNAV (GPS) RWY 19 Offset arrival procedure are available at the following locations:

(1) Online at https://www.faa.gov/air_traffic/community_involvement/teb/.

(2) Electronic Versions of the Final EA/FONSI/ROD have been sent to eight libraries in the vicinity of Teterboro Airport with a request to make the digital document available to patrons. A list of these libraries is available online at the website above and is shown below. The FAA recognizes that libraries may be closed due to the COVID-19 public health emergency and, therefore, availability through these libraries may be impacted.

(3) If you are unable to access the Final EA/FONSI/ROD through one of these means, email Andrew.Pieroni@faa.gov to request a copy of the document.

Rochelle Park Free Public Library, 151 W Passaic St, Rochelle Park, NJ

Paramus Public Library, 116 E Century Rd, Paramus, NJ

Sidney Silverman Library, 400 Paramus Rd, Paramus, NJ

Township of Washington Public Library, 144 Woodfield Rd, Township of Washington, NJ

Worth-Pinkham Memorial Library, 91 Warren Avenue, Ho-Ho-Kus, NJ

Lee Memorial Library, 500 W Crescent Ave, Allendale, NJ

Ramsey Free Public Library, 30 Wyckoff Ave, Ramsey, NJ

Upper Saddle River Public Library, 245 Lake St, Upper Saddle River, NJ

FOR FURTHER INFORMATION CONTACT: Mr. Andrew Pieroni, Federal Aviation Administration, Operations Support Group, Eastern Service Center, 1701 Columbia Avenue, College Park, Georgia 30337, (404) 305-5586. Additional information about the FAA's actions and environmental review of this project is available at the following website: https://www.faa.gov/air_traffic/community_involvement/teb/.

Andrew Pieroni,
EPS Operations Support Group, Eastern Service Center, Air Traffic Organization.

[FR Doc. 2020-20583 Filed 9-17-20; 8:45 am]

BILLING CODE 4910-13-P